DEPARTMENT OF ENERGY

Federal Energy Regulatory Commission

Notice of Effectiveness of Exempt Wholesale Generator or Foreign Utility Company Status

| Docket Nos.
Carson Cogeneration Company, LP | EG13-11-000
Delano Energy Center, LLC | EG13-12-000
Alpaugh 50, LLC | EG13-13-000
Alpaugh North, LLC | EG13-14-000
Niagara Wind Power, LLC | EG13-15-000
Conestogo Wind, LP | FC13-7-000

Take notice that during the month of March 2013, the status of the above-captioned entities as Exempt Wholesale Generators or Foreign Utility Companies became effective by operation of the Commission's regulations. 18 CFR 366.7(a).

Dated: April 11, 2013.
Kimberly D. Bose,
Secretary.

[FR Doc. 2013-09016 Filed 4-16-13; 8:45 am]

BILLING CODE 6717-01-P